DEPARTMENT OF COMMERCE

International Trade Administration

[A-201-848]

Emulsion Styrene-Butadiene Rubber From Mexico: Final Results of Antidumping Duty Administrative Review; 2020-2021

AGENCY: Enforcement and Compliance, International Trade Administration, Department of Commerce.

SUMMARY: The U.S. Department of Commerce (Commerce) determines that Industrias Negromex S.A. de C.V. (Negromex) did not make sales of emulsion styrene-butadiene rubber (ESB rubber) from Mexico at less than normal value during the period of review (POR), September 1, 2020, through August 31, 2021.

DATES: Applicable January 20, 2023.

FOR FURTHER INFORMATION CONTACT: Christopher Maciuba, AD/CVD Operations, Office V, Enforcement and Compliance, International Trade Administration, Department of Commerce, 1401 Constitution Avenue NW, Washington, DC 20230; telephone: (202) 482-0413.

SUPPLEMENTARY INFORMATION:

Background

On September 29, 2022, Commerce published the Preliminary Results and invited interested parties to comment.¹ No interested party submitted comments on the Preliminary Results. Accordingly, the final results remain unchanged from the Preliminary Results. Commerce conducted this review in accordance with section 751 of the Tariff Act of 1930, as amended (the Act).

¹ See Emulsion Styrene-Butadiene Rubber from Mexico: Preliminary Results of the Antidumping Duty Administrative Review; 2020-2021, 87 FR 59050 (September 29, 2022) (Preliminary Results), and accompanying Preliminary Decision Memorandum.

Scope of the Order ²

² See Emulsion Styrene-Butadiene Rubber from Brazil, the Republic of Korea, Mexico, and Poland: Antidumping Duty Orders, 82 FR 42790 (September 12, 2017) (Order).

The merchandise covered by the Order is cold-polymerized emulsion styrene-butadiene rubber. For a complete description of the scope of the Order, see the Preliminary Results.

Final Results of Review

We determine that the following weighted-average dumping margin exists for the respondent for the POR, September 1, 2020, through August 31, 2021:

Exporter/producer | Weighted- average dumping margin (percent)
Industrias Negromex S.A. de C.V | 0.00

Disclosure

Because Commerce received no comments on the Preliminary Results, we have not modified our analysis and no decision memorandum accompanies this Federal Register notice. We are adopting the Preliminary Results as the final results of this review. Consequently, there are no new calculations to disclose in accordance with 19 CFR 351.224(b) for these final results.

Assessment Rates

Pursuant to section 751(a)(2)(A) of the Act and 19 CFR 351.212(b)(1), Commerce will determine, and U.S. Customs and Border Protection (CBP) shall assess, antidumping duties on all appropriate entries of subject merchandise in accordance with the final results of this review. For Negromex, because its weighted-average dumping margin is zero, we will instruct CBP to liquidate entries reported in this review without regard to antidumping duties. Consistent with Commerce's assessment practice, for entries of subject merchandise during the POR produced by Negromex for which it did not know its merchandise was destined for the United States, we will instruct CBP to liquidate unreviewed entries at the all-others rate if there is no rate for the intermediate company(ies) involved in the transaction.³

³ For a full discussion of this practice, see Antidumping and Countervailing Duty Proceedings: Assessment of Antidumping Duties, 68 FR 23954 (May 6, 2003).

Commerce intends to issue assessment instructions to CBP no earlier than 41 days after the date of publication of the final results of this review in the Federal Register, in accordance with 19 CFR 356.8(a).

Cash Deposit Requirements

The following cash deposit requirements for estimated antidumping duties will be effective for all shipments of subject merchandise entered, or withdrawn from warehouse, for consumption on or after the publication date of the final results of this administrative review, as provided by section 751(a)(2)(C) of the Act: (1) the cash deposit rate for Negromex will be zero; (2) for merchandise exported by a producer or exporter not covered in this review but covered in a prior completed segment of the proceeding, the cash deposit rate will continue to be the company-specific rate published for the most recently-completed segment of this proceeding; (3) if the exporter is not a firm covered in this review, a prior review, or the original less-than-fair-value (LTFV) investigation, but the producer has been covered in a prior completed segment of this proceeding, the cash deposit rate will be the company-specific rate established for the most recent period for the producer of the merchandise; (4) the cash deposit rate for all other producers or exporters will continue to be 19.52 percent,⁴ the all-others rate established in the LTFV investigation. These cash deposit requirements, when imposed, shall remain in effect until further notice.

⁴ See Order, 82 FR at 42791.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

Notification to Interested Parties

We are issuing and publishing this notice in accordance with sections 751(a)(1) and 777(i) of the Act, and 19 CFR 351.221(b)(5) and 19 CFR 351.213(h)(1).

Dated: January 12, 2023.
Lisa W. Wang,
Assistant Secretary for Enforcement and Compliance.

[FR Doc. 2023-01041 Filed 1-19-23; 8:45 am]

BILLING CODE 3510-DS-P